DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of July 19, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Federal Emergency Management Agency, Department of Homeland Security.

Community | Community map repository address
Clinton County, Iowa and Incorporated Areas
Docket No.: FEMA-B-2212
City of Clinton | City Hall, 611 South 3rd Street, Clinton, IA 52733.
Penobscot County, Maine (All Jurisdictions)
Docket No.: FEMA-B-2228
City of Bangor | City Hall, 73 Harlow Street, Bangor, ME 04401.
City of Brewer | City Hall, 80 North Main Street, Brewer, ME 04412.
City of Old Town | City Hall, 265 Main Street, Old Town, ME 04468.
Penobscot Indian Nation | Penobscot Tribal Office, 12 Wabanaki Way, Indian Island, ME 04468.
Town of Bradley | Town Office, 165B Main Street, Bradley, ME 04411.
Town of Carmel | Municipal Building, 1 Safety Lane, Carmel, ME 04419.
Town of Clifton | Municipal Office, 135 Airline Road, Clifton, ME 04428.
Town of Corinth | Municipal Office, 31 Exeter Road, Corinth, ME 04427.
Town of Dixmont | Town Office, 758 Western Avenue, Dixmont, ME 04932.
Town of Eddington | Town Office, 906 Main Road, Eddington, ME 04428.
Town of Etna | Municipal Building, 17 Shadow Lane, Etna, ME 04434.
Town of Exeter | Town Office, 1221 Stetson Road, Exeter, ME 04435.
Town of Glenburn | Town Office, 144 Lakeview Road, Glenburn, ME 04401.
Town of Hampden | Town Office, 106 Western Avenue, Hampden, ME 04444.
Town of Hermon | Town Office, 333 Billings Road, Hermon, ME 04401.
Town of Holden | Town Office, 570 Main Road, Holden, ME 04429.
Town of Kenduskeag | Town Office, 4010 Broadway, Kenduskeag, ME 04450.
Town of Levant | Town Office, 691 Town House Road, Levant, ME 04456.
Town of Milford | Town Office, 62 Davenport Street, Milford, ME 04461.
Town of Newburgh | Municipal Office, 2220 Western Avenue, Newburgh, ME 04444.
Town of Orono | Town Office, 59 Main Street, Orono, ME 04473.
Town of Orrington | Municipal Office, 1 Municipal Way, Orrington, ME 04474.
Town of Plymouth | Town Office, 1947 Moosehead Trail Highway, Plymouth, ME 04969.
Town of Stetson | Town Office, 394 Village Road, Stetson, ME 04488.
Town of Veazie | Town Office, 1084 Main Street, Veazie, ME 04401.
Kent County, Rhode Island (All Jurisdictions)
Docket No.: FEMA-B-2180
Town of Coventry | Town Clerk's Office, 1670 Flat River Road, Coventry, RI 02816.
Town of West Greenwich | Town Hall, 280 Victory Highway, West Greenwich, RI 02817.
Providence County, Rhode Island (All Jurisdictions)
Docket No.: FEMA-B-2180
Town of Burrillville | Town of Burrillville Building Department, 144 Harrisville Main Street, Harrisville, RI 02830.
Town of Foster | Town Hall, 181 Howard Hill Road, Foster, RI 02825.
Town of Glocester | Glocester Town Hall, Town Clerk's Office, 1145 Putnam Pike, Chepachet, RI 02814.
Washington County, Rhode Island (All Jurisdictions)
Docket No.: FEMA-B-2180
Town of Exeter | Town Hall, Town Clerk's Office, 675 Ten Rod Road, Exeter, RI 02822.
Bexar County, Texas and Incorporated Areas
Docket No.: FEMA-B-2177
City of China Grove | City Hall, 2412 FM 1516 South, China Grove, TX 78263.
City of Elmendorf | City Hall, 8304 FM 327, Elmendorf, TX 78112.
City of San Antonio | Public Works Department—Storm Water Division, City Tower, 100 West Houston Street, 15th Floor, San Antonio, TX 78205.
Unincorporated Areas of Bexar County | Bexar County Public Works Department, 1948 Probandt Street, San Antonio, TX 78214.
Wilson County, Texas and Incorporated Areas
Docket No.: FEMA-B-2177
City of Elmendorf | City Hall, 8304 FM 327, Elmendorf, TX 78112.
Unincorporated Areas of Wilson County | Wilson County Courthouse, 1420 3rd Street, Suite 101, Floresville, TX 78114.
Pierce County, Washington and Incorporated Areas
Docket No.: FEMA-B-2215
Unincorporated Areas of Pierce County | Pierce County Tacoma Mall Plaza, 2702 South 42nd Street, Suite 201, Tacoma, WA 94809.

[FR Doc. 2023-03769 Filed 2-22-23; 8:45 am]

BILLING CODE 9110-12-P